DEPARTMENT OF EDUCATION

[Docket No.: ED-2023-SCC-0098]

Agency Information Collection Activities; Comment Request; Report of the Randolph-Sheppard Vending Facility Program

AGENCY: Office of Special Education and Rehabilitative Services (OSERS), Department of Education (ED).

ACTION: Notice.

SUMMARY: In accordance with the Paperwork Reduction Act (PRA) of 1995, the Department is proposing a revision of a currently approved information collection request (ICR).

DATES: Interested persons are invited to submit comments on or before August 8, 2023.

ADDRESSES: To access and review all the documents related to the information collection listed in this notice, please use http://www.regulations.gov by searching the Docket ID number ED-2023-SCC-0098. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave SW, LBJ, Room 6W203, Washington, DC 20202-8240.

FOR FURTHER INFORMATION CONTACT: For specific questions related to collection activities, please contact Jesse Hartle, 202-245-6415.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of the Randolph-Sheppard Vending Facility Program.

OMB Control Number: 1820-0009.

Type of Review: A revision of a currently approved ICR.

Respondents/Affected Public: State, local, and Tribal governments.

Total Estimated Number of Annual Responses: 51.

Total Estimated Number of Annual Burden Hours: 1,199.

Abstract: The U.S. Department of Education (Department) is seeking a continuation of this data collection with revisions necessitated by: (1) a limited exception to the definition of “equipment” in 2 CFR 200.1; (2) guidance issued by the Rehabilitation Services Administration (RSA) with respect to “Allowable Sources of Non-Federal Share for the State Vocational Rehabilitation Services Program;” (3) citation changes made to the definitions contained in the Uniform Administrative Requirements, Cost Principles, and Audit Requirements for Federal Awards (Uniform Guidance); and (4) requests for clarity from State licensing agencies (SLAs) regarding which non-Federal expenditures incurred for the benefit of the Randolph-Sheppard Vending Facilities Program (RSVFP) may be used for satisfying the match and maintenance of effort (MOE) requirements under the VR program. This proposed information collection request (ICR) also proposes a few other technical edits to improve clarity. Current approval for this data collection expires February 29, 2024, but is it requested to use the new instructions at the start of FY 2024 for FY 2023.

The Randolph-Sheppard Act (Act), at 20 U.S.C. 107a(6)(a), directs the Secretary of Education, through the Commissioner of RSA, to conduct periodic evaluations of the programs authorized under the Act. In addition, section 107b(4) requires State government entities designated as the SLA to “make such reports in such form and containing such information as the Secretary may from time to time require . . ..” Sections 107a(a)(2) and (4) of the Act also require the Secretary of Education to “. . . make annual surveys of concession vending opportunities for blind vendors on Federal and other property . . .” and to “. . . make available to the public . . . information obtained as a result of such surveys.” The information to be collected is a necessary component of the data gathering and evaluation process and forms the basis for the Randolph-Sheppard Act section of the RSA annual report to Congress, which is required by section 13 of the Rehabilitation Act of 1973 (Rehabilitation Act) (29 U.S.C. 710). The RSA-15 form includes information on the activities under this program and is used in monitoring the States' implementation of the program. In addition, the fiscal data collected by the RSA-15 highlight the fiscal nexus between the RSVFP and VR program in each State, particularly with respect to the use of Federal VR

This information collection (IC) will be implemented upon the expiration of the current IC on February 29, 2024; however it is requested to begin the use of this form and the new instructions for the FY 2023 data collection (October 1, 2023). The RSA-15: Report of Randolph-Sheppard Vending Facility Program 1820-0009 is available both in hard copy and electronically; however, data will be submitted and collected through the RSAMIS on the rsa.ed.gov website by each of the 51 SLAs.

Dated: June 6, 2023.
Juliana Pearson,
PRA Coordinator, Strategic Collections and Clearance, Governance and Strategy Division, Office of Chief Data Officer, Office of Planning, Evaluation and Policy Development.

[FR Doc. 2023-12348 Filed 6-8-23; 8:45 am]

BILLING CODE 4000-01-P